DEPARTMENT OF JUSTICE

Notice of Lodging of Proposed Consent Decree Under the Clean Air Act, CERCLA and EPCRA

On January 29, 2018, the Department of Justice lodged a proposed Consent Decree with the United States District Court for the Eastern District of California in the lawsuit entitled United States v. Gibson Wine Co., Civil Action No. 1:15-cv-01900-AWI-SKO.

This case involves claims for alleged violations of Sections 112(r)(1) and 112(r)(7) of the Clean Air Act (“CAA”), 42 U.S.C. 7412(r)(1), (7), Section 103 of the Comprehensive Environmental Response, Compensation and Liability Act, 42 U.S.C. 9603 (“CERCLA”), and Section 304 of the Emergency Planning and Community Right-To-Know Act, 42 U.S.C. 11004 (“EPCRA”), with respect to Gibson's winemaking facility (“Facility”) located in Sanger, California. The complaint sought injunctive relief and civil penalties stemming from the 2012 accidental release of anhydrous ammonia from the Facility's refrigeration system that resulted in the death of a worker. The settlement involves a civil penalty payment of $330,000, a reconfiguration of portions of the refrigeration process to reduce the risk of worker exposure in the event of an ammonia release, an upgrade to the refrigeration system from manual controls to a centralized computer control system programmed with automated warnings and shut-downs in the event of a release, and other injunctive relief geared towards reducing the risk of further releases at the Facility.

The publication of this notice opens a period for public comment on the Consent Decree. Comments should be addressed to the Assistant Attorney General, Environment and Natural Resources Division, and should refer to United States v. Gibson Wine Co., D.J. Ref. No. 90-11-3-11058. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.50 (25 cents per page reproduction cost) payable to the United States Treasury.

Henry Friedman,
Assistant Section Chief, Environmental Enforcement Section, Environment and Natural Resources Division.

[FR Doc. 2018-02041 Filed 2-1-18; 8:45 am]

BILLING CODE 4410-15-P